DEPARTMENT OF ENERGY

Federal Energy Regulatory Commission

[Docket No. RP06-332-000]

Northern Natural Gas Company; Notice of Technical Conference

June 28, 2006.

The Federal Energy Regulatory Commission will convene a technical conference regarding Northern Natural Gas Company's proposal to adjust the boundary of its Operational Zones ABC and EF to the Iowa/Minnesota border in order to provide that delivery points in northern Iowa currently located in Operational Zone EF be moved to Operational Zone ABC, and delivery points in southwestern Minnesota currently located in Operational Zone ABC be moved to Operational Zone EF, pursuant to the Commission Order issued on May 26, 2006.¹ The conference will be held on Wednesday, July 19, 2006 at 10 a.m. eastern time at the Federal Energy Regulatory Commission, Commission Hearing Room #2, 888 First Street, NE., Washington, DC 20426.

¹ Northern Natural Gas Company, 115 FERC ¶ 61,254 (2006).

FERC conferences are accessible under section 508 of the Rehabilitation Act of 1973. For accessibility accommodations please send an e-mail to accessibility@ferc.gov or call toll free 1-866-208-3372 (voice) or 202-208-1659 (TTY); or send a fax to 202-208-2106 with the required accommodations.

The conference is open for the public to attend, and registration is not required. For more information about the conference, please contact Alicia Cobb at (202) 502-6237 or at alicia.cobb@ferc.gov.

Magalie R. Salas,
Secretary.

[FR Doc. E6-10616 Filed 7-6-06; 8:45 am]

BILLING CODE 6717-01-P